DEPARTMENT OF ENERGY

Federal Energy Regulatory Commission

[Docket Nos. CP03-79-000, CP03-33-000, CP03-34-000 and CP03-35-000]

National Fuel Gas Supply Corporation; Wyckoff Gas Storage Company, LLC; Supplemental Notice of Intent To Prepare an Environmental Assessment for the Proposed National Fuel Gas Supply Corporation Line Z-67 Project and Request for Comments on Environmental Issues

April 24, 2003.

The staff of the Federal Energy Regulatory Commission (FERC or Commission) will prepare an environmental assessment (EA) that will discuss the environmental impacts of the National Fuel Gas Supply Corporation (National Fuel) Line Z-67 Project in Steuben County, New York.¹ This project is related to Wyckoff Gas Storage Company, LLC's (Wyckoff) proposed Wyckoff Gas Storage Project in Docket Nos. CP03-33-000, CP03-34-000 and CP03-35-000, involving construction and operation of natural gas storage facilities in Steuben County, New York. We ² issued a notice of intent to prepare an EA for Wyckoff's project on February 10, 2003. The EA being prepared for the Wyckoff project will be expanded to include National Fuel's Line Z-67 Project. The facilities National Fuel proposes to abandon include about 6.8 miles of 8-inch-diameter pipeline (Line Z-67), one block valve, and two bridle valve connections. This EA will be used by the Commission in its decision-making process to determine whether the project is in the public convenience and necessity.

¹ National Fuel's application was filed with the Commission under Section 7 of the Natural Gas Act and part 157 of the Commission's regulations.

² ”We”, “us”, and “our” refer to the environmental staff of the Office of Energy Projects (OEP).

A fact sheet prepared by the FERC entitled “An Interstate Natural Gas Facility On My Land? What Do I Need To Know?” was attached to the project notice Wyckoff provided to landowners. This fact sheet addresses a number of typically asked questions, including the use of eminent domain and how to participate in the Commission's proceedings. It is available for viewing on the FERC Internet Web site (http://www.ferc.gov).

Summary of the Proposed Project

National Fuel states that it would abandon its facilities only if the Wyckoff Storage Project is developed. After completion of abandonment activities, Wyckoff would exercise its option to acquire National Fuel's right-of-way under the right-of-way agreements, subject to a reservation allowing National Fuel to use the right-of-way for a single pipeline. This would be consistent with the terms and conditions of the applicable right-of-way agreements. National Fuel's facilities that would be abandoned would consist of:

• 35,670 feet of 8-inch-diameter pipeline Line Z-67, would be abandoned in place near the Towns of Troupsburg and Jasper, Steben County, New York. Landowners request that the pipeline be removed. If pipeline sections are removed at the request of landowners, that work would be performed by Wyckoff. One block valve and two bridle valve connections would be abandoned by removal along Line Z-67.

• One 100-horsepower nonjurisdictional skid mounted field compressor would also be retired by removal.

The location of the project facilities is shown in appendix 1.³

³ The appendices referenced in this notice are not being printed in the Federal Register. Copies are available on the Commission's Web site at the “FERRIS” link or from the Commission's Public Reference and Files Maintenance Branch, 888 First Street, NE., Washington, DC 20426, or call (202) 502-8371. For instructions on connecting to FERRIS refer to the last page of this notice. Copies of the appendices were sent to all those receiving this notice in the mail.

Land Requirements for Construction

Abandonment of the proposed facilities would require less than 0.1 acre of land, and the work would be performed on National Fuel's existing right-of-way. At milepost (MP) 0.0, an approximate 5-foot by 15-foot bell hole would be dug over the existing trench line on the edge of an agricultural field in order to cut and remove the aboveground block valve. At MPs 3.14 and 6.76, three bell holes would be dug at each site. Each bell hole would be about 5-foot by 5-foot over the existing trench line in order to cut and remove the bridle connection aboveground facilities. Additional land would be disturbed in areas where landowners want the old pipeline removed.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the construction and operation of the proposed project under these general headings:

• soils

• land use

• cultural resources

• vegetation and wildlife

• endangered and threatened species

• polychlorinated biphenyls (PCB)

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Wyckoff. This preliminary list of issues may be changed based on your comments and our analysis.

• National Fuel's Line Z-67 would be abandoned in place unless requested to be removed by the landowners. Additional land would be disturbed where any landowners want the pipeline removed.

• Excavations would occur on the existing Line Z-67 pipeline right-of-way at MPs 0.0, 3.14, and 6.76 to allow workmen to access, cut, test for PCBs, and cap the existing pipeline.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas 2 Branch.

• Reference Docket No. CP03-79-000.

• Mail your comments so that they will be received in Washington, DC on or before May 27, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

If you do not want to send comments at this time but still want to remain on our mailing list, please return the Information Request (appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov/esubscribenow.htm.

Magalie R. Salas,
Secretary.

[FR Doc. 03-10620 Filed 4-29-03; 8:45 am]

BILLING CODE 6717-01-P